DEPARTMENT OF ENERGY

Agency Information Collection Extension

AGENCY: U.S. Department of Energy.

ACTION: Submission for Office of Management and Budget (OMB) review; request comments.

SUMMARY: The Department of Energy (DOE) has submitted an information collection request to the OMB for extension under the provisions of the Paperwork Reduction Act of 1995. The information collection requests a three-year extension of its collection, titled Contracting, OMB Control Number 1910-5190. The proposed collection will collect information related to BPA's management and oversight of contracting requirements in fulfillment of BPA's vendor contracts.

DATES: Comments regarding this collection must be received on or before December 15, 2023. If you anticipate that you will be submitting comments but find it difficult to do so within the period allowed by this notice, please advise the OMB Desk Officer of your intention to make a submission as soon as possible. The Desk Officer may be telephoned at (202) 881-8585.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Requests for additional information or copies of the information collection instrument and instructions should be directed to Attn: Stephanie Noell, Privacy Program, by email at privacy@bpa.gov, or by phone at (503) 230-3881.

SUPPLEMENTARY INFORMATION: This information collection request contains:

(1) OMB No.: 1910-5190;

(2) Information Collection Request Title: Contracting;

(3) Type of Request: Extension;

(4) Purpose: this information collection is associated with BPA's management and oversight of contracting requirements in fulfillment of BPA vendor contracts;

(5) Annual Estimated Number of Respondents: 835;

(6) Annual Estimated Number of Total Responses: 5,115;

(7) Annual Estimated Number of Burden Hours: 1,240;

(8) Annual Estimated Reporting and Recordkeeping Cost Burden: $0.

Statutory Authority: The Bonneville Project Act codified in 16 U.S.C. 832a; the Federal Columbia River Transmission System Act of 1974 in 16 U.S.C. 838 et seq.; and the Pacific Northwest Electric Power Planning and Conservation Act in 16 U.S.C. 839 et seq.; IRS Code 26 U.S.C. 6109; and Department of Energy Establishment Act 42 U.S.C. 7101 et seq.

Signing Authority: This document of the Department of Energy was signed on November 1, 2023, by Rachel L. Hull, Information collection Clearance Manager, Bonneville Power Administration, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on November 9, 2023.
Treena V. Garrett,
Federal Register Liaison Officer, U.S. Department of Energy.

[FR Doc. 2023-25240 Filed 11-14-23; 8:45 am]

BILLING CODE 6450-01-P